DEPARTMENT OF VETERANS AFFAIRS

Advisory Committee on Women Veterans; Notice of Meeting

The Department of Veterans Affairs (VA) gives notice under the Federal Advisory Committee Act, 5 U.S.C. App. 2, that the Advisory Committee on Women Veterans will meet on December 4-6, 2012, in room 230 at VA Central Office, 810 Vermont Avenue NW., Washington, DC, from 8:30 until 4:30 p.m. each day. The meeting is open to the public.

The purpose of the Committee is to advise the Secretary of Veterans Affairs regarding the needs of women Veterans with respect to health care, rehabilitation, compensation, outreach, and other programs and activities administered by VA designed to meet such needs. The Committee makes recommendations to the Secretary regarding such programs and activities.

The agenda will include overviews of the Veterans Health Administration, the Veterans Benefits Administration, and the National Cemetery Administration; and briefings on health care for women Veterans, mental health, women Veterans' legislative issues, military sexual trauma, the claims process, and homeless initiatives for women Veterans.

No time will be allocated at this meeting for receiving oral presentations from the public. Interested parties should provide written comments for review by the Committee to Ms. Shannon L. Middleton, VA, Center for Women Veterans (00W), 810 Vermont Avenue NW., Washington, DC 20420, or email at 00W@mail.va.gov, or fax to (202) 273-7092. Individuals who wish to attend the meeting or want additional information should contact Ms. Middleton at (202) 461-6193.

Dated: November 14, 2012.
By Direction of the Secretary.
Vivian Drake,
Committee Management Officer.

[FR Doc. 2012-28102 Filed 11-16-12; 8:45 am]

BILLING CODE P